ENVIRONMENTAL PROTECTION AGENCY

40 CFR Part 52

[EPA-R09-OAR-2019-0159; FRL-9997-66-Region 9]

Partial Approval, Partial Disapproval and Limited Approval, Limited Disapproval of Arizona Air Plan Revisions; Pinal County Air Quality Control District

AGENCY: Environmental Protection Agency (EPA).

ACTION: Final rule.

SUMMARY: The Environmental Protection Agency (EPA) is finalizing a partial approval and partial disapproval of revisions to the Pinal County Air Quality Control District (PCAQCD) portion of the Arizona State Implementation Plan (SIP). This action concerns the District's demonstration regarding reasonably available control technology (RACT) requirements and negative declarations for the 2008 8-hour ozone National Ambient Air Quality Standards (NAAQS or “standards”) in the portion of the Phoenix-Mesa ozone nonattainment area under the jurisdiction of the PCAQCD. The EPA is also finalizing a limited approval and limited disapproval of two PCAQCD rules that regulate emissions from surface coating operations and gasoline dispensing stations that were submitted with its RACT SIP demonstration. This partial disapproval of the RACT SIP and limited disapproval of two PCAQCD rules will trigger sanctions clocks under the CAA that will be stopped if the EPA approves subsequent SIP revisions that correct the rule and RACT SIP deficiencies within 18 months of the effective date of this final action. Under the authority of the Clean Air Act (CAA or the Act), this action simultaneously approves the PCAQCD rules for surface coating operations and storage and loading of gasoline at gasoline dispensing facilities and directs Arizona to correct the rule deficiencies.

DATES: These rules will be effective on September 9, 2019.

ADDRESSES: The EPA has established a docket for this action under Docket No. EPA-R09-OAR-2019-0159. All documents in the docket are listed on the https://www.regulations.gov website. Although listed in the docket, some information is not publicly available, e.g., Confidential Business Information or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Stanley Tong, EPA Region IX—(Air 3-2), 75 Hawthorne St., San Francisco, CA 94105. By phone: (415) 947-4122 or by email at tong.stanley@epa.gov.

SUPPLEMENTARY INFORMATION: Throughout this document, “we,” “us” and “our” refer to the EPA.

Table of Contents

I. Proposed Action

II. EPA Action

III. Incorporation by Reference

IV. Statutory and Executive Order Reviews

I. Proposed Action

On May 13, 2019 (84 FR 20838), the EPA proposed to partially approve and partially disapprove PCAQCD's 2016 RACT SIP (“2016 RACT SIP”) demonstration and negative declarations for the 2008 8-hour ozone NAAQS. Our notice also proposed a limited approval and limited disapproval of the following two PCAQCD rules that were submitted with the 2016 RACT SIP: Chapter 5, Article 13, Surface Coating Operations, and Chapter 5, Article 20, Storage and Loading of Gasoline at Gasoline Dispensing Facilities. Table 1 lists the documents that were submitted by the Arizona Department of Environmental Quality (ADEQ) for incorporation into the Arizona SIP and were the subject of our May 13, 2019 proposed rulemaking action.

Table 1—Submitted Documents
Local agency | Document | Adopted | Submitted
PCAQCD | Reasonably Available Control Technology (RACT) Analysis, Negative Declaration and Rules Adoption | 11/30/2016 | 2/3/2017
PCAQCD | Chapter 5, Article 13 Surface Coating Operations 5-13-100, “General” 5-13-200, “Definitions” 5-13-300, “Standards” 5-13-400, “Administrative Requirements” 5-13-500, “Monitoring and Records” Note: the submittal explicitly excludes 5-13-390 “Spray Paint and Other Surface Coating Operations” (as amended 10/12/95). | 11/30/2016 | 2/3/2017
PCAQCD | Chapter 5, Article 20 Storage and Loading of Gasoline at Gasoline Dispensing Facilities 5-20-100 “General” 5-20-200 “Definitions” 5-20-300 “Standards” 5-20-400 “Administrative Requirements” 5-20-500 “Monitoring and Records” | 11/30/2016 | 2/3/2017

PCAQCD's 2016 RACT SIP provides the District's demonstration that the applicable SIP for the PCAQCD satisfies CAA section 182 RACT requirements for the 2008 8-hour ozone NAAQS. This conclusion is based on the District's analysis of SIP-approved requirements that apply to the following: (1) Source categories for which the EPA has issued a Control Techniques Guidelines (CTG) document, and (2) major non-CTG stationary sources of Volatile Organic Compounds (VOCs) or oxides of nitrogen (NOX).

With respect to CTG source categories, PCAQCD determined that it only had sources subject to the CTGs covering surface coating operations and gasoline dispensing stations. PCAQCD submitted for SIP approval two rules to implement RACT for these categories: Chapter 5, Article 13 Surface Coating Operations, and Chapter 5, Article 20 Storage and Loading of Gasoline at Gasoline Dispensing Facilities.

We proposed a limited approval for these two rules because we determined that they improve the SIP and are largely consistent with the relevant CAA requirements. We simultaneously proposed a limited disapproval because some rule provisions conflict with section 110 and part D of the Act. Our proposed action determined that Article 13 did not incorporate all the recommended metal parts coating categories from the Miscellaneous Metal and Plastic Parts CTG and allows some exemptions not found in the CTG. We also determined that Article 20 needed to be strengthened to correct an enforceability issue.

Where there are no existing sources covered by a particular CTG document, or no major non-CTG sources, states may, in lieu of adopting RACT requirements for those sources, adopt negative declarations certifying that there are no such sources in the relevant nonattainment area. Appendix C of the 2016 RACT SIP lists the District's negative declarations where it has no sources subject to the applicable CTG for the 2008 8-hour ozone NAAQS.

We proposed a partial approval and partial disapproval of the 2016 RACT SIP because while we determined that the District's negative declarations listed in its 2016 RACT SIP Appendix C largely addressed the required RACT elements, the District had not adopted a negative declaration or a RACT rule for major stationary sources of VOC or NOx, cutback asphalt, and certain sections of the Miscellaneous Metal and Plastic Parts CTG.

Our proposed action contains more information on the basis for this rulemaking and on our evaluation of the submittal.

II. EPA Action

The EPA's proposed action provided a 30-day public comment period. No comments were submitted. Therefore, as authorized in sections 110(k)(3) and 301(a) of the Act, the EPA is finalizing a limited approval of Articles 13 and 20. This action incorporates the submitted rules into the PCAQCD portion of the Arizona SIP, including those provisions identified as deficient. The approval of Articles 13 and 20 is limited because the EPA is simultaneously finalizing a limited disapproval of Articles 13 and 20 under 110(k)(3). This limited disapproval will trigger sanctions clocks under CAA section 179 and 40 CFR 52.31 that will be stopped if the EPA approves subsequent SIP revisions that correct the rule deficiencies within 18 months of the effective date of today's final action.

Note that Articles 13 and 20 have been adopted by the PCAQCD, and the EPA's final limited disapproval will not prevent the local agency from enforcing them. The limited disapproval also will not prevent any portion of the rules from being incorporated by reference into the federally enforceable SIP as discussed in the memorandum dated July 9, 1992, from John Calcagni, Director, Air Quality Management Division, U.S. EPA, to EPA Regional Air Directors, Regions I-X, Subject: “Processing of State Implementation Plan (SIP) Submittals,” currently available at https://www.epa.gov/sites/production/files/2015-07/documents/procsip.pdf.

As authorized in sections 110(k)(3) and 301(a) of the Act, the EPA is also finalizing a partial approval of PCAQCD's 2016 RACT SIP. This action incorporates the 2016 RACT SIP including the RACT certification and negative declarations into the Pinal County portion of the Arizona SIP. The EPA is simultaneously finalizing a partial disapproval of the 2016 RACT SIP under 110(k)(3). This partial disapproval of the 2016 RACT SIP will trigger sanctions clocks under CAA section 179 and 40 CFR 52.31 that will be stopped if the EPA approves subsequent SIP revisions that correct the deficiencies within 18 months of the effective date of today's final action.

The first sanction, the offset sanction in CAA section 179(b)(2), would apply within 18 months of the effective date of today's final action. The highway funding sanctions in CAA section 179(b)(1) would apply in the area six months after the offset sanction is imposed. Neither sanction will be imposed under the CAA if Arizona submits and we approve, prior to the implementation of sanctions, SIP revisions that correct the RACT deficiencies identified in our proposed action. In addition to the sanctions, CAA section 110(c)(1) provides that the EPA must promulgate a federal implementation plan (FIP) addressing the deficient RACT elements two years after the effective date of this rule if we have not approved a SIP revision correcting the deficiencies within two years.

We note that PCAQCD will not be required to submit a revised CAA section 182 RACT SIP demonstration for the 2008 8-hour ozone NAAQS if the rule revisions required by this action correct the identified deficiencies to satisfy current RACT requirements, the District adopts the necessary negative declarations for its 2016 RACT SIP, and the EPA fully approves the submitted documents into the SIP.

III. Incorporation by Reference

In this rule, the EPA is finalizing regulatory text that includes incorporation by reference. In accordance with requirements of 1 CFR 51.5, the EPA is finalizing the incorporation by reference of the PCAQCD rules described in the amendments to 40 CFR part 52 set forth below. Therefore, these materials have been approved by the EPA for inclusion in the Arizona SIP, have been incorporated by reference by the EPA into that plan, are fully federally enforceable under sections 110 and 113 of the CAA as of the effective date of the final rulemaking of the EPA's approval, and will be incorporated by reference in the next update to the SIP compilation.¹ The EPA has made, and will continue to make, these documents available through https://www.regulations.gov and at the EPA Region IX Office (please contact the person identified in the FOR FURTHER INFORMATION CONTACT section of this preamble for more information).

¹ 62 FR 27968 (May 22, 1997).

IV. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 13771: Reducing Regulations and Controlling Regulatory Costs

This action is not an Executive Order 13771 regulatory action because SIP approvals, including limited approvals, are exempted under Executive Order 12866.

C. Paperwork Reduction Act (PRA)

This action does not impose an information collection burden under the PRA because this action does not impose additional requirements beyond those imposed by state law.

D. Regulatory Flexibility Act (RFA)

I certify that this action will not have a significant economic impact on a substantial number of small entities under the RFA. This action will not impose any requirements on small entities beyond those imposed by state law.

E. Unfunded Mandates Reform Act (UMRA)

This action does not contain any unfunded mandate as described in UMRA, 2 U.S.C. 1531-1538, and does not significantly or uniquely affect small governments. This action does not impose additional requirements beyond those imposed by state law. Accordingly, no additional costs to state, local, or tribal governments, or to the private sector, will result from this action.

F. Executive Order 13132: Federalism

This action does not have federalism implications. It will not have substantial direct effects on the states, on the relationship between the national government and the states, or on the distribution of power and responsibilities among the various levels of government.

G. Executive Order 13175: Coordination With Indian Tribal Governments

This action does not have tribal implications, as specified in Executive Order 13175, because the SIP is not approved to apply on any Indian reservation land or in any other area where the EPA or an Indian tribe has demonstrated that a tribe has jurisdiction, and will not impose substantial direct costs on tribal governments or preempt tribal law. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not impose additional requirements beyond those imposed by state law.

I. Executive Order 13211: Actions That Significantly Affect Energy Supply, Distribution, or Use

This action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

K. Executive Order 12898: Federal Actions To Address Environmental Justice in Minority Populations and Low-Income Population

The EPA lacks the discretionary authority to address environmental justice in this rulemaking.

L. Congressional Review Act (CRA)

This action is subject to the CRA, and the EPA will submit a rule report to each House of the Congress and to the Comptroller General of the United States. This action is not a “major rule” as defined by 5 U.S.C. 804(2).

M. Petitions for Judicial Review

Under section 307(b)(1) of the Clean Air Act, petitions for judicial review of this action must be filed in the United States Court of Appeals for the appropriate circuit by October 8, 2019. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen dioxide, Ozone, Reporting and recordkeeping requirements, Volatile organic compounds.

Dated: July 23, 2019.
Michael Stoker,
Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart D—Arizona

2. Section 52.120 is amended by:

a. In paragraph (c), Table 9, under the heading “Chapter 5. Stationary Source Performance Standards” adding entries for “5-13-100”, “5-13-200”, “5-13-300”, “5-13-400”, “5-13-500”, “5-20-100”, “5-20-200”, “5-20-300”, “5-20-400” and “5-20-500” in numerical order, and;

b. In paragraph (e), Table 1, under the subheading “Part D Elements and Plans for the Metropolitan Phoenix and Tucson Areas” adding an entry for “Reasonably Available Control Technology (RACT) Analysis, Negative Declaration and Rules Adoption” after the entry for “Maricopa Association of Governments (MAG) 1987 Carbon Monoxide (CO) Plan for the Maricopa County Area, MAG CO Plan Commitments for Implementation, and Appendix A through E, Exhibit 4, Exhibit D.”

The additions to read as follows:

§ 52.120 Identification of plan.

* * * * *

(c) * * *

Table 9—EPA-Approved Pinal County Air Pollution Control Regulations
County citation | Title/subject | State effective date | EPA approval date | Additional explanation
* * * * * * *
Chapter 5. Stationary Source Performance Standards
5-13-100 | Surface Coating Operations—General | January 1, 2017 | August 9, 2019, [INSERT Federal Register CITATION] | Adopted by Pinal County on November 30, 2016. Submitted on February 3, 2017. The RACT rule for Surface Coating Operations consists of Pinal County Air Quality Control District sections 5-13-100, 5-13-200, 5-13-300, 5-13-400, and 5-13-500.
5-13-200 | Definitions | January 1, 2017 | August 9, 2019, [INSERT Federal Register CITATION] | Adopted by Pinal County on November 30, 2016. Submitted on February 3, 2017. The RACT rule for Surface Coating Operations consists of Pinal County Air Quality Control District sections 5-13-100, 5-13-200, 5-13-300, 5-13-400, and 5-13-500.
5-13-300 | Standards | January 1, 2017 | August 9, 2019, [INSERT Federal Register CITATION] | Adopted by Pinal County on November 30, 2016. Submitted on February 3, 2017. The RACT rule for Surface Coating Operations consists of Pinal County Air Quality Control District sections 5-13-100, 5-13-200, 5-13-300, 5-13-400, and 5-13-500. Section 5-13-390 is not part of the SIP.
5-13-400 | Administrative Requirements | January 1, 2017 | August 9, 2019, [INSERT Federal Register CITATION] | Adopted by Pinal County on November 30, 2016. Submitted on February 3, 2017. The RACT rule for Surface Coating Operations consists of Pinal County Air Quality Control District sections 5-13-100, 5-13-200, 5-13-300, 5-13-400, and 5-13-500.
5-13-500 | Monitoring and Records | January 1, 2017 | August 9, 2019, [INSERT Federal Register CITATION] | Adopted by Pinal County on November 30, 2016. Submitted on February 3, 2017. The RACT rule for Surface Coating Operations consists of Pinal County Air Quality Control District sections 5-13-100, 5-13-200, 5-13-300, 5-13-400, and 5-13-500.
* * * * * * *
5-20-100 | Storage and Loading of Gasoline at Gasoline Dispensing Facilities—General | January 1, 2017 | August 9, 2019, [INSERT Federal Register CITATION] | Adopted by Pinal County on November 30, 2016. Submitted on February 3, 2017. The RACT rule for Storage and Loading of Gasoline at Gasoline Dispensing Facilities consists of Pinal County Air Quality Control District sections 5-20-100, 5-20-200, 5-20-300, 5-20-400, and 5-20-500.
5-20-200 | Definitions | January 1, 2017 | August 9, 2019, [INSERT Federal Register CITATION] | Adopted by Pinal County on November 30, 2016. Submitted on February 3, 2017. The RACT rule for Storage and Loading of Gasoline at Gasoline Dispensing Facilities consists of Pinal County Air Quality Control District sections 5-20-100, 5-20-200, 5-20-300, 5-20-400, and 5-20-500.
5-20-300 | Standards | January 1, 2017 | August 9, 2019, [INSERT Federal Register CITATION] | Adopted by Pinal County on November 30, 2016. Submitted on February 3, 2017. The RACT rule for Storage and Loading of Gasoline at Gasoline Dispensing Facilities consists of Pinal County Air Quality Control District sections 5-20-100, 5-20-200, 5-20-300, 5-20-400, and 5-20-500.
5-20-400 | Administrative Requirements | January 1, 2017 | August 9, 2019, [INSERT Federal Register CITATION] | Adopted by Pinal County on November 30, 2016. Submitted on February 3, 2017. The RACT rule for Storage and Loading of Gasoline at Gasoline Dispensing Facilities consists of Pinal County Air Quality Control District sections 5-20-100, 5-20-200, 5-20-300, 5-20-400, and 5-20-500.
5-20-500 | Monitoring and Records | January 1, 2017 | August 9, 2019, [INSERT Federal Register CITATION] | Adopted by Pinal County on November 30, 2016. Submitted on February 3, 2017. The RACT rule for Storage and Loading of Gasoline at Gasoline Dispensing Facilities consists of Pinal County Air Quality Control District sections 5-20-100, 5-20-200, 5-20-300, 5-20-400, and 5-20-500.
* * * * * * *

* * * * *

(e) * * *

Table 1—EPA-Approved Non-Regulatory and Quasi-Regulatory Measures
[Excluding certain resolutions and statutes, which are listed in tables 2 and 3, respectively] ¹
Name of SIP provision | Applicable geographic or nonattainment area or title/subject | State submittal date | EPA approval date | Explanation
The State of Arizona Air Pollution Control Implementation Plan
* * * * * * *
Part D Elements and Plans for the Metropolitan Phoenix and Tucson Areas
* * * * * * *
Reasonably Available Control Technology (RACT) Analysis, Negative Declaration and Rules Adoption | Pinal County portion of Phoenix-Mesa nonattainment area for 2008 8-hour ozone NAAQS | February 3, 2017 | August 9, 2019, [INSERT Federal Register CITATION] | RACT SIP submittal for Apache Junction (Pinal County portion of Phoenix-Mesa ozone nonattainment area). Adopted by the Pinal County Air Quality Control District on November 30, 2016.
* * * * * * *
¹ Table 1 is divided into three parts: Clean Air Act Section 110(a)(2) State Implementation Plan Elements (excluding Part D Elements and Plans), Part D Elements and Plans (other than for the Metropolitan Phoenix or Tucson Areas), and Part D Elements and Plans for the Metropolitan Phoenix and Tucson Areas.

* * * * *

3. Section 52.122 is amended by adding paragraph (a)(2) as follows:

§ 52.122 Negative declarations.

* * * * *

(a) * * *

(2) Pinal County Air Quality Control District.

(i) The following negative declarations for the 2008 ozone NAAQS were adopted on November 30, 2016 and submitted on February 3, 2017.

EPA document No. | Title
EPA-450/2-77-008 | Surface Coating of Cans.
EPA-450/2-77-008 | Surface Coating of Coils.
EPA-450/2-77-008 | Surface Coating of Paper.
EPA-450/2-77-008 | Surface Coating of Fabric.
EPA-450/2-77-008 | Surface Coating of Automobiles and Light-Duty Trucks.
EPA-450/2-77-022 | Solvent Metal Cleaning.
EPA-450/2-77-025 | Refinery Vacuum Producing Systems, Wastewater Separators, and Process Unit Turnarounds.
EPA-450/2-77-026 | Tank Truck Gasoline Loading Terminals.
EPA-450/2-77-032 | Surface Coating of Metal Furniture.
EPA-450/2-77-033 | Surface Coating of Insulation of Magnet Wire.
EPA-450/2-77-034 | Surface Coating of Large Appliances.
EPA-450/2-77-035 | Bulk Gasoline Plants.
EPA-450/2-77-036 | Storage of Petroleum Liquids in Fixed-Roof Tanks.
EPA-450/2-78-029 | Manufacture of Synthesized Pharmaceutical Products.
EPA-450/2-78-030 | Manufacture of Pneumatic Rubber Tires.
EPA-450/2-78-032 | Factory Surface Coating of Flat Wood Paneling.
EPA-450/2-78-033 | Graphic Arts—Rotogravure and Flexography.
EPA-450/2-78-036 | Leaks from Petroleum Refinery Equipment.
EPA-450/2-78-047 | Petroleum Liquid Storage in External Floating Roof Tanks.
EPA-450/2-78-051 | Leaks from Gasoline Tank Trucks and Vapor Collection Systems.
EPA-450/3-82-009 | Large Petroleum Dry Cleaners.
EPA-450/3-83-006 | Leaks from Synthetic Organic Chemical Polymer and Resin Manufacturing Equipment.
EPA-450/3-83-007 | Leaks from Natural Gas/Gasoline Processing Plants.
EPA-450/3-83-008 | Manufacture of High-Density Polyethylene, Polypropylene, and Polystyrene Resins.
EPA-450/3-84-015 | Air Oxidation Processes in Synthetic Organic Chemical Manufacturing Industry.
EPA-450/4-91-031 | Reactor Processes and Distillation Operations in Synthetic Organic Chemical Manufacturing Industry.
EPA-453/R-96-007 | Wood Furniture Manufacturing Operations.
EPA-453/R-94-032 61 FR 44050; 8/27/96 | ACT Surface Coating at Shipbuilding and Ship Repair Facilities Shipbuilding and Ship Repair Operations (Surface Coating).
EPA-453/R-97-004 59 FR 29216; 6/06/94 | Aerospace MACT and Aerospace (CTG & MACT).
EPA-453/R-06-001 | Industrial Cleaning Solvents.
EPA-453/R-06-002 | Offset Lithographic Printing and Letterpress Printing.
EPA-453/R-06-003 | Flexible Package Printing.
EPA-453/R-06-004 | Flat Wood Paneling Coatings.
EPA 453/R-07-003 | Paper, Film, and Foil Coatings.
EPA 453/R-07-004 | Large Appliance Coatings.
EPA 453/R-07-005 | Metal Furniture Coatings.
EPA 453/R-08-004 | Fiberglass Boat Manufacturing Materials.
EPA 453/R-08-005 | Miscellaneous Industrial Adhesives.
EPA 453/R-08-006 | Automobile and Light-Duty Truck Assembly Coatings.

(ii) [Reserved]

4. Section 52.124 is amended by adding paragraph (b) to read as follows:

§ 52.124 Part D disapproval.

* * * * *

(b) The following Reasonably Available Control Technology (RACT) determinations are disapproved because they do not meet the requirements of Part D of the Clean Air Act.

(1) Pinal County Air Quality Control District.

(i) RACT determinations for the Control of Volatile Organic Emissions from Use of Cutback Asphalt (EPA-450/2-77-037), major NOX, and major VOC source categories, in the submittal titled “Reasonability Available Control Technology (RACT) Analysis, Negative Declaration and Rules Adoption,” dated November 30, 2016, as adopted on November 30, 2016 and submitted on February 3, 2017.

(ii) [Reserved]

(2) [Reserved]

[FR Doc. 2019-16786 Filed 8-8-19; 8:45 am]

BILLING CODE 6560-50-P